DEPARTMENT OF LABOR

Employment and Training Administration

[NAFTA-04403]

Gynecare, Ethicon, A Johnson and Johnson Co.; Menlo Park, CA; Amended Certification Regarding Eligibility To Apply for NAFTA-Transitional Adjustment Assistance

In accordance with section 250(A), subchapter D, chapter 2, Title II, of the Trade Act of 1974 (19 U.S.C. 2273), the Department of Labor issued a Certification for NAFTA Transitional Adjustment Assistance on March 21, 2001, applicable to workers of Gynecare, Melo Park, California. The notice was published in the Federal Register on April 16, 2001 (66 FR 19522).

At the request of the State agency, the Department reviewed the certification for workers of the subject firm. The workers are engaged in the production of medical catheters. New information shows that Ethicon, A Johnson and Johnson Co. is the parent firm of Gynecare, Menlo Park, California.

Information also shows that workers separated from employment at the subject firm had their wages reported under a separate unemployment insurance (UI) tax account for Gynecare, Ethicon, A Johnson and Johnson Co. Menlo Park, California.

Accordingly, the Department is amending the certification to properly reflect this matter.

The intent of the Department's certification is to include all workers of Gynecare, Menlo Park, California who were adversely affected by a shift of production of medical catheters to Mexico.

The amended notice applicable to NAFTA-04403 is hereby issued as follows:

All workers of Gynecare, Ethicon, A Johnson and Johnson Co., Menlo Park, California who became totally or partially separated from employment on or after December 21, 1999, through March 21, 2003, are eligible to apply for NAFTA-TAA under Section 250 of the Trade Act of 1974.

Signed at Washington, DC, this 29th day of November 2001.
Linda G. Poole,
Certifying Officer, Division of Trade Adjustment Assistance.

[FR Doc. 01-31139 Filed 12-17-01; 8:45 am]

BILLING CODE 4510-30-M